DEPARTMENT OF AGRICULTURE

Submission for OMB Review; Comment Request

February 23, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 30, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: USDA Professional Standards Training Tracker Tool (PSTTT).

OMB Control Number: 0584-NEW.

Summary of Collection: Section 306 of the Healthy Hunger-Free Kids Act of 2010 (HHFKA) requires Professional Standards for state and local school district nutrition professionals. In addition to hiring standards, mandatory annual training will be required for all individuals involved in preparing school meals. To meet the training requirements and assist in keeping track of training and training courses, FNS is developing a web-based application tool which will be made available to local educational agencies and school food authorities through the FNS public Web site. While training requirements are mandatory, using the USDA PSTTT is voluntary. School nutrition professionals can use any method to track and manage their trainings. These resources will facilitate compliance with HHFKA requirements and will be provided at no cost to the state, district, or individuals.

Need and Use of the Information: State and school nutrition professionals can use the PSTTT to keep track of their training courses, learning objectives, and training hours, in accordance with HHFKA requirements. State reviewers can run reports from the PSTTT that they can use in preparation for Administrative Reviews that are conducted onsite at the school food authorities.

Description of Respondents: State, Local, or Tribal Government.

Number of Respondents: 10,006.

Frequency of Responses: Reporting: On occasion; Quarterly; Annually.

Total Burden Hours: 17,090.

Ruth Brown,
Departmental Information Collection Clearance Officer.

[FR Doc. 2017-03899 Filed 2-27-17; 8:45 am]

BILLING CODE 3410-30-P